DEPARTMENT OF TRANSPORTATION

Federal Railroad Administration

[Docket Number FRA-2012-0024]

Petition for Extension of Waiver of Compliance

Under part 211 of title 49 Code of Federal Regulations (CFR), this document provides the public notice that on August 10, 2021, the Everett Railroad Company (EV) petitioned the Federal Railroad Administration (FRA) for an extension of a special approval/waiver of compliance from certain provisions of the Federal railroad safety regulations contained at 49 CFR parts 215 (Railroad Freight Car Safety Standards), 223 (Safety Glazing Standards—Locomotives, Passenger Cars and Cabooses), and 224 (Reflectorization of Rail Freight Rolling Stock). The relevant FRA Docket Number is FRA-2012-0024.

Specifically, EV requested to extend its special approval pursuant to 49 CFR 215.203, Restricted cars, for one caboose (EV 91517) that is more than 50 years from the date of original construction. EV also requests to extend its existing relief from 49 CFR 215.303, Stenciling of restricted cars; 223.15, Requirements for existing cabooses; and 224.101, General requirements. In support of its request, EV states that the relief would allow the caboose's historical appearance to be preserved for excursion, historical, and public relations purposes, and that installing FRA-certified glazing would be costly and difficult.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 18, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-18862 Filed 8-31-21; 8:45 am]

BILLING CODE 4910-06-P